DEPARTMENT OF ENERGY

Federal Energy Regulatory Commission

[Project No. 12530-001]

Green Power Development, LLC; Anchorage, AK; Notice of Intent To File License Application, Filing of Pre-Application Document (PAD), Commencement of Licensing Proceeding, Issuance of Scoping Document, Solicitation of Study Requests and Comments on the Pad and Scoping Document

July 18, 2005.

a. Type of Filing: Notice of intent to file a license application for a new license under the Integrated Licensing Process and Commencing Licensing Proceeding.

b. Project No.: 12530-001.

c. Date Filed: May 23, 2005.

d. Submitted by: Green Power Development, LLC.

e. Project Name: Allison Lake Hydroelectric Project.

f. Location: On the headwaters of Allison Creek at Allison Lake in south-central Alaska within the City Limits of Valdez. No Federal lands are occupied by the project works or otherwise located within the project boundary.

g. Filed Pursuant to: 18 CFR part 5 of the Commission's Regulations.

h. Green Power Contact: Joel Groves, Hydro Project Manager, Green Power Development, LLC, 1503 West 33rd Avenue, Anchorage, AK 99503; (907) 258-2420; joel@polarconsult.net.

i. FERC Contact: John Blair, Federal Energy Regulatory Commission, 888 First Street, NE., Washington, DC 20426; (202) 502-6092; john.blair@ferc.gov.

j. We are asking Federal, State, local, and tribal agencies with jurisdiction and/or special expertise with respect to environmental issues to cooperate with us in the preparation of the environmental document. Agencies who would like to request cooperating status should follow the instructions for filing comments described in paragraph p below.

k. With this notice, we are initiating informal consultation with: (1) The U.S. Fish and Wildlife Service and NOAA Fisheries, as appropriate, under section 7 of the Endangered Species Act and the joint agency regulations there under at 50 CFR 402; and (2) the State Historic Preservation Officer, as required by section 106, National Historic Preservation Act, and the implementing regulations of the Advisory council on Historic Preservation at 36 CFR 800.2.

l. With this notice, we are designating Green Power Development, LLC as the Commission's non-Federal representative for carrying out informal consultation, pursuant to section 7 of the Endangered Species Act; and as the Commission's non-Federal representative for carrying out informal consultation pursuant to section 106 of the National Historic Preservation Act.

m. Green Power Development filed a Pre-Application Document (PAD), including a proposed process plan and schedule, with the Commission, pursuant to 18 CFR 5.6 of the Commission's regulations.

n. A copy of the PAD is available for review at the Commission in the Public Reference Room or may be viewed on the Commission's Web site, http://www.ferc.gov, using the “eLibrary” link. Enter the docket number, P-12530 in the docket number field, to access the document. For assistance, contact FERC Online Support at FERCONlineSupport@ferc.gov or toll free at (866) 208-3676, or for TTY, (202) 502-8659. A copy is also available for inspection and reproduction at Green Power Deveopment, 1503 West 33rd Avenue, Suite 301, Anchorage, AK 99503.

Register online at http://ferc.gov/esubscribenow.htm to be notified via e-mail of new filings and issuances related to this or other Commission projects. For assistance, contact FERC Online Support.

o. Concurrent with this notice, we are issuing Scoping Document 1 (SD1), which outlines the alternatives and issues to be addressed in our environmental document, to the individuals and entities on the Commission's mailing list. Copies of SD1 will be available at the scoping meetings described in item r below, or is available for review at the Commission in the Public Reference Room or may be viewed on the Commission's Web site, http://www.ferc.gov, using the “eLibrary” link, as described in item n above. Based on all oral and written comments, a Scoping Document 2 (SD2) may be issued. SD2 will include any revisions to the list of issues outlined in SD1 that are identified during the scoping process, and may include a revised process plan and schedule.

p. With this notice, we are soliciting comments on the PAD and SD1, as well as any study requests. All comments on the PAD and SD1, and study requests should be sent to Green Power Development at the address above in paragraph h, and in addition, all comments on the PAD and SD1, study requests, requests for cooperating agency status, and all communications with Commission staff related to the merits of the proposed application (original and eight copies) must be filed with the Commission at the following address: Magalie R. Salas, Secretary, Federal Energy Regulatory Commission, 888 First Street, NE., Washington, DC 20426. All filings with the Commission must include, on the first page, the project name (Allison Lake Hydroelectric Project) and number (P-12530-000), and bear the heading “Comments on Pre-Application Document,” “Study Requests,” “ Comments on Scoping Document 1,” “Request for Cooperating Agency Status,” or “Communications with Commission Staff.” Any individual or entity interested in submitting study requests, commenting on the PAD or SD1, and any agency requesting cooperating status must do so by September 16, 2005.

Comments on the PAD and SD1, study requests, requests for cooperating agency status, and other permissible forms of communications with the Commission may be filed electronically via the Internet in lieu of paper. See 18 CFR 385.2001 (a)(1)(iii) and the instructions on the Commission's Web site, http://www.ferc.gov, under the “e-Filing” link. The Commission strongly encourages electronic filings. For assistance, please contact FERC Online Support.

q. At this time, the Commission intends to prepare an Environmental Assessment for the project, in accordance with the National Environmental Policy Act.

r. Scoping Meetings: Commission staff will hold two scoping meetings at the time and place noted below. We invite all interested individuals, organizations, and agencies to attend one or both meetings, and to assist staff in identifying particular study needs, as well as the scope of environmental issues to be addressed in the environmental document. The times and locations of these meetings are as follows:

Scoping Meeting #1

Date and Time: August 16, 2005 from 7 to 9 p.m.

Location: Valdez Convention and Civic Center, 110 Clifton Drive, Valdez, Alaska.

Phone: (907) 835-4440.

Scoping Meeting #2

Date and Time:August 17, 2005 at 1 to 5 p.m.

Location: Hawthorn Suites Hotel, 1110 West 8th Ave., Anchorage, Alaska.

Phone: (907) 222-5005.

The scoping meetings are posted on the Commission's calendar, located on the internet at http://www.ferc.gov/EventCalendar/EventsList.aspx, along with other related information.

Site Visit

Green Power Development will conduct a site visit of the project on August 16, 2005, beginning at 1 p.m. Participants should be prepared to provide their own ground transportation. Drive from the town of Valdez on Dayville Road, traveling toward the Valdez Marine Terminal. Meet at the parking area on the left side of Dayville Road immediately before crossing the bridge over Allison Creek. From the parking lot participants will travel on foot to the proposed powerhouse site. Weather permitting, we will tour the water intake and dam sites at Allison Lake by aerial fly over. Anyone with questions about the site visit should contact Joel Groves of Green Power Development at (907) 258-2420. Those individuals planning to participate should notify Mr. Groves of their intent, before August 3, 2005.

Meeting Objectives

At the scoping meetings, staff will: (1) Initiate scoping of the issues; (2) review and discuss existing conditions and resource management objectives; (3) review and discuss existing information and identify preliminary information and study needs; (4) review and discuss the process plan and schedule for pre-filing activities that incorporates the time frames provided for in part 5 of the Commission's regulations and, to the extent possible, maximizes coordination of Federal, State, and tribal permitting and certification processes; and (5) discuss the appropriateness of any Federal or State agency or Indian tribe acting as a cooperating agency for development of our environmental document.

Meeting Procedures

The scoping meetings will be recorded by a court reporter and all statements, oral and written, will become part of the Commission's official public record for this project.

Magalie R. Salas,
Secretary.

[FR Doc. E5-3923 Filed 7-21-05; 8:45 am]

BILLING CODE 6717-01-P